DEPARTMENT OF LABOR

Employment and Training Administration

[TA-W-64,151A]

Casey Tool & Machine Co. Inc., 1550 Douglas Drive and 815 Reasor Road, Including On-Site Leased Workers From Westaff, Charleston, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 22, 2008, applicable to workers of Casey Tool & Machine Co. Inc., Charleston, Illinois. The notice was published in the Federal Register on November 10, 2008 (73 FR 66676).

At the request of a petitioner, the Department reviewed the certification for workers of the subject firm. The workers of the firm are engaged in the production of residential and commercial lighting.

The Department is amending the certification to clarify that the firm operates at two locations in Charleston, Illinois and utilizes leasing agency staff. The workers at 1550 Douglas Drive provide purchasing and IT support, while workers at 815 Reasor Road are engaged in activities related to the production of commercial lighting. Furthermore, the worker group at Casey Tool & Machine Co. Inc., 815 Reasor Road, Charleston, Illinois, includes on-site leased workers from Westaff.

The amended notice applicable to TA-W-64,151A is hereby issued as follows:

“All workers of Casey Machine & Tool Co. Inc., 1550 Douglas Drive and 815 Reasor Road, including on-site leased workers from Westaff, Charleston, Illinois, who became totally or partially separated from employment on or after September 30, 2007 through October 22, 2010, are eligible to apply for adjustment assistance under Section 223 of the Trade Act of 1974, and are also eligible to apply for alternative trade adjustment assistance under Section 246 of the Trade Act of 1974.”

Signed in Washington, DC, this 20th day of November 2008.
Linda G. Poole,
Certifying Officer, Division of Trade Adjustment Assistance.

[FR Doc. E8-28364 Filed 11-28-08; 8:45 am]

BILLING CODE 4510-FN-P